COMMISSION ON CIVIL RIGHTS

Sunshine Act Meeting

AGENCY: United States Commission on Civil Rights.

ACTION: Notice of Briefing and Business Meeting.

DATE AND TIME: Friday, May 31, 2013 at 9:30 a.m. EST.

PLACE: Washington Marriott at Metro Center, 775 12th St NW.,—Grand Ballroom, Washington, DC 20005.

Briefing Agenda—9:30 a.m.-3:00 p.m.

This briefing is open to the public.

Topic: Protecting the Civil Rights of our Veterans and Service Members

I. Introductory Remarks by Chairman

II. Panel 1—9:30 a.m.-11:00 a.m.: Federal Government Officials Speakers' Remarks and Questions from Commissioners

III. Panel 2—11:00 a.m.-12:30 p.m.: Advocacy Groups Speakers' Remarks and Questions from Commissioners

IV. LUNCH—12:30 p.m.-1:30 p.m.

V. Panel 3—1:30 p.m.-3:00 p.m.: Experts Speakers' Remarks and Questions from Commissioners

VI. Adjourn Briefing

Meeting Agenda—3:00 p.m.

I. Approval of Agenda

II. Results of Notational Vote Ballots regarding:

a. Delegation of authority to initiate the Affected Agency Review of the 2013 Statutory Report

b. Concurrence with the President's appointment of a U.S. Commission on Civil Rights Staff Director

III. Management and Operations

• Consideration of date change for the September 2013 business meeting

IV. Approval of State Advisory Committee Appointment Slates

• Kentucky

• New Jersey

• Oregon

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: May 20, 2013.
David Mussatt,
Acting Chief, Regional Programs Coordination Unit.

[FR Doc. 2013-12389 Filed 5-21-13; 11:15 am]

BILLING CODE 6335-01-P